DEPARTMENT OF LABOR

Employment and Training Administration

Comment Request for Information Collection for The National Agricultural Workers Survey: Revision to an Approved Collection (OMB 1205-0453)

AGENCY: Employment and Training Administration, Labor.

ACTION: Notice.

SUMMARY: The Department of Labor (DOL), as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration is soliciting comments concerning the addition of seven new questions to the National Agricultural Workers Survey (NAWS) regarding: (1) The amount of time per day farm workers are engaged working in specific crops and tasks, and (2) farm workers' clothes laundering and hygiene practices. The information obtained from these questions will improve the Environmental Protection Agency, Office of Pesticide Programs' (EPA/OPP) ability to assess farm workers' risk to pesticide exposure. There are no known national-level studies that assess the length of the work day for specific crop-task combinations. The Office of Management and Budget (OMB) authorization for the current NAWS questionnaire will expire on October 31, 2013.

A copy of the proposed information collection request can be obtained by contacting the office listed below in the addressee section of this notice.

DATES: Written comments must be submitted to the office listed in the ADDRESSES section below on or before June 6, 2011.

ADDRESSES: Submit written comments to Mr. Daniel Carroll, Division of Research and Evaluations, Office of Policy Development and Research, U.S. Department of Labor, 200 Constitution Avenue, NW., Room N-5641, Washington, DC 20210. Telephone number: 202-693-2795 (this is not a toll-free number). Fax: 202-693-2766. E-mail: carroll.daniel.j@dol.gov.

SUPPLEMENTARY INFORMATION:

I. Background

The NAWS is an employment-based, annual survey of the demographic, employment, and health characteristics of hired crop farm workers, including workers brought to farms by labor intermediaries. Each year, approximately 1,500 workers are randomly chosen for an interview. Interviews are conducted three times per year to account for the seasonality of agricultural production and employment. Several Federal agencies utilize the NAWS to collect information on the population of hired crop farm workers. EPA, which has responsibility for assessing exposure to pesticides, is one such agency. These added questions will provide information that will improve EPA's ability to assess farm workers' risk of pesticide exposure.

The questions would be piloted in one interview cycle in Fiscal Year 2011 and, depending on the quality of information obtained, would be administered in all three interview cycles of Fiscal Years 2012 and 2013. The questions would be administered to each farm worker who is randomly selected for an interview.

II. Review Focus

DOL is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriated automated, electronic, mechanical, or other technological collection techniques or other forms of information technology, e.g., permitting electronic submissions of responses.

III. Current Actions

Type of Review: Revision to an Approved Collection.

Agency: Employment and Training Administration.

Title: National Agricultural Workers Survey.

OMB Number: 1205-0453.

Affected Public: Individuals, Farms.

Form(s): Primary Questionnaire.

Total Annual Respondents: 2,064.

Frequency: annual.

Total Annual Responses: 2,064.

Average Time per Response: 49.2 minutes.

Estimated Total Annual Burden Hours: 1,693.

Total Burden Cost (operating/maintaining): $0.

Comments submitted in response to this comment request will be summarized and/or included in the request for OMB approval of the information collection request; they will also become a matter of public record.

Dated: March 29, 2011.
Jane Oates,
Assistant Secretary, Employment and Training Administration.

[FR Doc. 2011-7972 Filed 4-4-11; 8:45 am]

BILLING CODE 4510-FN-P